DEPARTMENT OF TRANSPORTATION

Federal Aviation Administration

14 CFR Part 39

[Docket No. FAA-2009-1029; Directorate Identifier 2009-NM-103-AD; Amendment 39-16348; AD 2010-14-03]

RIN 2120-AA64

Airworthiness Directives; Bombardier, Inc. Model CL-600-2B19 (Regional Jet Series 100 & 440) Airplanes

AGENCY: Federal Aviation Administration (FAA), Department of Transportation (DOT).

ACTION: Final rule.

SUMMARY: We are superseding an existing airworthiness directive (AD) for the products listed above. This AD results from mandatory continuing airworthiness information (MCAI) originated by an aviation authority of another country to identify and correct an unsafe condition on an aviation product. The MCAI describes the unsafe condition as:

Following in-flight test deployments, several Air-Driven generators (ADGs) failed to come on-line. Investigation revealed that, as a result of a wiring anomaly that had not been detected during ADG manufacture, a short circuit was possible between certain internal wires and their metallic over-braided shields, which could result in the ADG not providing power when deployed. * * *

The unsafe condition is failure of the ADG, which could lead to loss of several functions essential for safe flight. We are issuing this AD to require actions to correct the unsafe condition on these products.

DATES: This AD becomes effective August 4, 2010.

On April 30, 2009 (74 FR 13086, March 26, 2009), the Director of the Federal Register approved the incorporation by reference of a certain publication listed in this AD.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Fabio Buttitta, Aerospace Engineer, Airframe and Mechanical Systems Branch, ANE-171, FAA, New York Aircraft Certification Office, 1600 Stewart Avenue, Suite 410, Westbury, New York 11590; telephone (516) 228-7303; fax (516) 794-5531.

SUPPLEMENTARY INFORMATION:

Discussion

We issued a notice of proposed rulemaking (NPRM) to amend 14 CFR part 39 to include an AD that would apply to the specified products. That NPRM was published in the Federal Register on November 5, 2009 (74 FR 57271), and proposed to supersede AD 2009-06-17, Amendment 39-15854 (74 FR 13086, March 26, 2009). That NPRM proposed to correct an unsafe condition for the specified products.

Since we issued AD 2009-06-17, we have been advised that additional air-driven generators may have been installed between the effective date of Canadian Airworthiness Directive CF-2008-09, and the effective date of the equivalent FAA AD 2009-06-17. Therefore, we have determined that the actions specified in paragraph (f)(1) of AD 2009-06-17 also must be done on airplanes having serial numbers 8084 through 8102.

Comments

We gave the public the opportunity to participate in developing this AD. We considered the comments received.

Support for the NPRM

The Air Line Pilots Association, International supports the intent of the NPRM.

Request To Revise the Proposed Applicability To Apply AD to Part, Not Airplanes

Air Wisconsin Airlines Corporation (Air Wisconsin) suggests that we revise the applicability statement of the NPRM to refer to the specific serial numbers of the air-driven generators (ADGs) as installed on Model CL-600-2B19 (Regional Jet Series 100 & 440) airplanes; certificated in any category. Air Wisconsin states that the FAA said in AD 2008-01-04, Amendment 39-15329 (73 FR 1964, January 11, 2008), that parts on the shelf pose no safety concern.

From these statements, we infer that Air Wisconsin requests that we change the applicability statement of the NPRM to refer to the ADG part numbers instead of the airplane model. We disagree. When an unsafe condition results from the installation of a particular component in only one particular make and model of airplane, we apply the AD to the airplane model, not the component. Thus, operators of those airplanes will be notified directly of the unsafe condition and the action required to correct it. Specifying the airplane models in the applicability of the AD will ensure affected operators are aware of their need to comply with the AD. We have not changed the AD in this regard.

Request To Withdraw NPRM

Air Wisconsin requests that we rescind the NPRM for several reasons. Air Wisconsin states the unsafe condition has already been mitigated through AD 2009-06-17, Amendment 39-15854 (74 FR 13086, March 26, 2009), which this final rule supersedes. Air Wisconsin also notes that all the referenced data in the NPRM is the same as in AD 2009-06-17. Air Wisconsin points out that the airplanes referred to in paragraphs (f)(1)(i), (f)(1)(ii), (f)(1)(ii)(B), (f)(3), (g)(1)(i), (g)(1)(ii), (g)(1)(ii)(B), and (g)(2) of the NPRM do not indicate or reference the proposed airplane change. Therefore, Air Wisconsin argues, the NPRM does not apply to these airplanes. Finally, Air Wisconsin states that paragraph (f)(2) of AD 2009-06-17 and paragraph “B.” of Canadian Airworthiness Directive CF-2008-09, dated February 5, 2008, prohibit the installation of ADGs identified in Table 1 of the AD unless it is identified with the symbol “24-2.”

We disagree with the request to withdraw the NPRM. AD 2009-06-17 applies to Model CL-600-2B19 (Regional Jet Series 100 & 440) airplanes; certificated in any category; having serial numbers 7305 through 7990, and 8000 and subsequent. The inspection requirement in that AD applied to airplanes having serial numbers 7305 through 7990 inclusive, and 8000 through 8083 inclusive. We are now superseding AD 2009-06-17 to expand the inspection requirement and to include airplanes having serial numbers 8084 through 8102 inclusive. Because we have expanded the applicability, we are superseding AD 2009-06-17 to address the unsafe condition on those additional airplanes, even though the technical data remains the same. Additionally, the requirements in the previous AD do not address units that were installed on airplanes before April 30, 2009 (the effective date of AD 2009-06-17). We have not changed the AD in regard to this issue.

Explanation of Change Made to the Proposed AD

We have revised the NPRM to identify the legal name of the manufacturer as published in the most recent type certificate data sheet for the affected airplane models.

Conclusion

We reviewed the relevant data, considered the comment received, and determined that air safety and the public interest require adopting the AD with the changes described previously. We also determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Explanation of Change to Costs of Compliance

Since issuance of the NPRM, we have increased the labor rate used in the Costs of Compliance from $80 per work-hour to $85 per work-hour. The Costs of Compliance information, below, reflects this increase in the specified hourly labor rate.

Costs of Compliance

We estimate that this AD will affect about 686 products of U.S. registry.

The actions that are required by AD 2009-06-17 and retained in this AD take about 5 work-hours per product, at an average labor rate of $85 per work-hour. Required parts would cost about $0 per product. Where the service information lists required parts costs that are covered under warranty, we have assumed that there will be no charge for these costs. As we do not control warranty coverage for affected parties, some parties may incur costs higher than estimated here. Based on these figures, we estimate the cost of this AD to the U.S. operators to be $291,550, or $425 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15854 (74 FR 13086, March 26, 2009) and adding the following new AD:

2010-14-03 Bombardier, Inc.: Amendment 39-16348. Docket No. FAA-2009-1029; Directorate Identifier 2009-NM-103-AD.

Effective Date

(a) This airworthiness directive (AD) becomes effective August 4, 2010.

Affected ADs

(b) This AD supersedes AD 2009-06-17, Amendment 39-15854.

Applicability

(c) This AD applies to Bombardier, Inc. Model CL-600-2B19 (Regional Jet Series 100 & 440) airplanes; certificated in any category; having serial numbers (S/Ns) 7305 through 7990, and 8000 and subsequent.

Subject

(d) Air Transport Association (ATA) of America Code 24: Electrical power.

Reason

(e) The mandatory continuing airworthiness information (MCAI) states:

Following in-flight test deployments, several Air-Driven generators (ADGs) failed to come on-line. Investigation revealed that, as a result of a wiring anomaly that had not been detected during ADG manufacture, a short circuit was possible between certain internal wires and their metallic over-braided shields, which could result in the ADG not providing power when deployed. This directive mandates checking of the ADG and modification of the ADG internal wiring, if required. It also prohibits future installation of unmodified ADGs.

The unsafe condition is failure of the ADG, which could lead to loss of several functions essential for safe flight.

Restatement of Requirements of AD 2009-06-17, With No Changes

Actions and Compliance

(f) Unless already done, do the following actions.

(1) For airplanes having serial numbers (S/Ns) 7305 through 7990 and 8000 through 8083: Within 12 months after April 30, 2009 (the effective date of AD 2009-06-17), inspect the S/N of the installed ADG. A review of airplane maintenance records is acceptable in lieu of this inspection if the serial number of the ADG can be conclusively determined from that review.

(i) If the serial number is not listed in paragraph 1.A of Bombardier Service Bulletin 601R-24-113, Revision A, dated August 11, 2005, no further action is required by this paragraph.

(ii) If the serial number is listed in paragraph 1.A of Bombardier Service Bulletin 601R-24-113, Revision A, dated August 11, 2005, within 12 months after April 30, 2009, inspect the ADG identification plate and, as applicable, do the actions of paragraph (f)(1)(ii)(A) or (f)(1)(ii)(B) of this AD.

(A) If the identification plate is marked with the symbol “24-2,” no further action is required by this paragraph.

(B) If the identification plate is not marked with the symbol “24-2,” modify the ADG wiring in accordance with the Accomplishment Instructions of Bombardier Service Bulletin 601R-24-113, Revision A, dated August 11, 2005.

(2) For airplanes having S/Ns 7305 through 7990, and 8000 and subsequent: As of April 30, 2009, no ADG as described in Table 1 of this AD may be installed on any airplane, unless the identification plate of the ADG is identified with the symbol “24-2.”

Note 1: Bombardier Service Bulletin 601R-24-113, Revision A, dated August 11, 2005, refers to Hamilton Sundstrand Service Bulletin ERPS10AG-24-2, dated February 19, 2004, for further guidance on identifying the symbol “24-2.”

Table 1—ADG Identification
ADG Part No. | Having ADG Serial No.
604-90800-1 (761339C), 604-90800-17 (761339D), or 604-90800-19 (761339E) | 0101 through 0132, 0134 through 0167, 0169 through 0358, 0360 through 0438, 0440 through 0456, 0458 through 0467, 0469, 0471 through 0590, 0592 through 0597, 0599 through 0745, 0747 through 1005, or 1400 through 1439.

(3) Actions done before April 30, 2009, according to Bombardier Service Bulletin 601R-24-113, dated April 22, 2004, are considered acceptable for compliance with the corresponding actions specified in paragraph (f)(1) of this AD, provided the ADG has not been replaced since those actions were done.

New Requirements of This AD

Actions and Compliance

(g) Unless already done, do the following actions.

(1) For airplanes having S/Ns 8084 through 8102: Within 12 months after the effective date of this AD, inspect the serial number of the installed ADG. A review of airplane maintenance records is acceptable in lieu of this inspection if the serial number of the ADG can be conclusively determined from that review.

(i) If the serial number is not listed in paragraph 1.A of Bombardier Service Bulletin 601R-24-113, Revision A, dated August 11, 2005, no further action is required by this paragraph.

(ii) If the serial number is listed in paragraph 1.A of Bombardier Service Bulletin 601R-24-113, Revision A, dated August 11, 2005, within 12 months after the effective date of this AD, inspect the ADG identification plate and, as applicable, do the actions specified in paragraph (g)(1)(ii)(A) or (g)(1)(ii)(B) of this AD.

(A) If the identification plate is marked with the symbol “24-2,” no further action is required by this paragraph.

(B) If the identification plate is not marked with the symbol “24-2,” modify the ADG wiring in accordance with the Accomplishment Instructions of Bombardier Service Bulletin 601R-24-113, Revision A, dated August 11, 2005.

(2) Actions done before the effective date of this AD according to Bombardier Service Bulletin 601R-24-113, dated April 22, 2004, are considered acceptable for compliance with the corresponding actions specified in paragraph (g)(1) of this AD, provided the ADG has not been replaced since those actions were done.

FAA AD Differences

Note 2: This AD differs from the MCAI and/or service information as follows: The MCAI specifies to inspect S/Ns 7305 through 7990 and 8000 through 8083. This AD also specifies to inspect S/Ns 8084 through 8102.

Other FAA AD Provisions

(h) The following provisions also apply to this AD:

(1) Alternative Methods of Compliance (AMOCs): The Manager, New York Aircraft Certification Office, ANE-170, FAA, has the authority to approve AMOCs for this AD, if requested using the procedures found in 14 CFR 39.19. Send information to ATTN: Program Manager, Continuing Operational Safety, FAA, New York ACO, 1600 Stewart Avenue, Suite 410, Westbury, New York 11590; telephone 516-228-7300; fax 516-794-5531. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(i) Refer to MCAI Canadian Airworthiness Directive CF-2008-09, dated February 5, 2008; and Bombardier Service Bulletin 601R-24-113, Revision A, dated August 11, 2005; for related information.

Material Incorporated by Reference

(j) You must use Bombardier Service Bulletin 601R-24-113, Revision A, dated August 11, 2005, to do the actions required by this AD, unless the AD specifies otherwise.

(1) The Director of the Federal Register previously approved the incorporation by reference of Bombardier Service Bulletin 601R-24-113, Revision A, dated August 11, 2005, on April 30, 2009 (74 FR 13086, March 26, 2009).

(2) For service information identified in this AD, contact Bombardier, Inc., 400 Côte-Vertu Road West, Dorval, Québec H4S 1Y9, Canada; telephone 514-855-5000; fax 514-855-7401; e-mail thd.crj@aero.bombardier.com; Internet http://www.bombardier.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on June 17, 2010.
Robert D. Breneman,
Acting Manager, Transport Airplane Directorate, Aircraft Certification Service.

[FR Doc. 2010-15819 Filed 6-29-10; 8:45 am]

BILLING CODE 4910-13-P